OFFICE OF PERSONNEL MANAGEMENT

[Notice BSC-HCM-2023-0004; Docket No. BSC-HCM-2023-0004; Sequence 1]

Business Standards Council Review of Human Capital Federal Integrated Business Framework Business Standards: Request for Public Comment

AGENCY: Office of Personnel Management (OPM).

ACTION: Request for public comment.

SUMMARY: This notice informs the public of the opportunity to provide input on the Human Capital Federal Integrated Business Framework Business Standards (HC-FIBF) and the Human Capital Information Model version 5.2 (HCIM v5.2). The HC-FIBF contains proposed service activities, business capabilities, and service measures for Agency Human Capital Strategy, Policies, and Operation Plan; Employee Accountability; Labor Relations; Human Capital Analytics and Employee Records; Agency Human Capital Evaluation; and Personnel Action Request (PAR) Processing (Human Capital Business Reference Model (HCBRM) Functions A1, A7-A10, and X1), and standard data elements for HCBRM Functions A1, A7-A10. The HCIM v5.2 contains the Registry, Domain Values, and Systems and Forms Mapping products, along with Release Notes that detail the specific updates included in HCIM v5.2. HCIM v5.2 focuses on HCBRM Functions A1 and A7-A10. This input will be used in formulation of business standards for Federal human capital management.

DATES: Comments due: Interested parties should submit comments via the method outlined in the ADDRESSES section on or before August 7, 2023.

ADDRESSES: Submit comments in response to Notice BSC-HCM-2023-0004 by Regulations.gov: https://www.regulations.gov. Submit comments via the Federal eRulemaking portal by searching for “Notice BSC-HCM-2023-0004”. Select the link “Comment Now” that corresponds with “Notice BSC-HCM-2023-0004”. Follow the instructions provided at the screen. Please include your name, company name (if any), and “Notice BSC-HCM-2023-0004” on your attached document.

• Instructions: Please submit comments only and cite “Notice BSC-HCM-2023-0004,” in all correspondence related to this notice. Comments received generally will be posted without change to https://www.regulations.gov, including any personal and/or business confidential information provided. To confirm receipt of your comment(s), please check https://www.regulations.gov, approximately two-to-three business days after submission to verify posting.

FOR FURTHER INFORMATION CONTACT: Jeffrey S. Pollack, Human Resources Line of Business (HRLOB) Program Manager, at 202-936-0068, or by email at jeffrey.pollack@opm.gov.

SUPPLEMENTARY INFORMATION: On April 26, 2019, the Office of Management and Budget published OMB memorandum 19-16, Centralized Mission Support Capabilities for the Federal Government (available at https://www.whitehouse.gov/wp-content/uploads/2019/04/M-19-16.pdf). Mission support business standards, established and agreed to by agencies, using the Federal Integrated Business Framework (FIBF) website at https://ussm.gsa.gov/fibf/, enable the Federal Government to better coordinate on the decision-making needed to determine what can be adopted and commonly shared. These business standards are an essential first step towards agreement on outcomes, data, and cross-functional end to end processes that will drive economies of scale and leverage the government's buying power. The business standards will be used as the foundation for common mission support services shared by Federal agencies.

OPM serves as the Human Capital Management (HCM) business standards lead on the Business Standards Council (BSC). The goal of the HCM business standards is to standardize Human Capital Management across the Federal government. The HCM business capabilities, service metrics, and standard data elements document the key activities, inputs, outputs, data elements, and other functional area intersections. OPM is seeking public feedback on these draft business standards, including comments on understandability of the standards, suggested changes, and usefulness of the draft standards to industry and agencies.

Guiding questions in standard development include:

• Do the draft business standards appropriately document the business processes covered?

• Are the draft business standards easy to understand?

• Will your organization be able to show how your solutions and/or services can meet these draft business standards?

• What would you change about the draft business standards? Is there anything missing?

Comments will be used in formulation of the final business standards.

U.S. Office of Personnel Management.
Kayyonne Marston,
Federal Register Liaison.

[FR Doc. 2023-13961 Filed 7-5-23; 8:45 am]

BILLING CODE 6325-63-P